DEPARTMENT OF THE TREASURY

United States Customs Service

[T.D. 01-60]

Customs Accreditation and Approval of National Marine Consultants Incorporated as a Commercial Laboratory and Commercial Gauger

AGENCY: U.S. Customs Service, Department of the Treasury.

ACTION: Notice of accreditation and approval of National Marine Consultants, Inc. of Matawan, New Jersey as a commercial laboratory and commercial gauger.

SUMMARY: National Marine Consultants, Inc. of Matawan, New Jersey, has applied to U.S. Customs under Parts 151.12 and 151.13 of the Customs Regulations for accreditation as a commercial laboratory to analyze petroleum products under Chapter 27 and Chapter 29 of the Harmonized Tariff Schedule of the United States (HTSUS) and approval as a commercial gauger to gauge petroleum products under Chapter 27 and Chapter 29, animal and vegetable oils under Chapter 15 and organic compounds under Chapter 29 of the Harmonized Tariff Schedule of the United States (HTSUS). Customs has determined that this company meets all of the requirements for accreditation as a commercial laboratory and approval as a commercial gauger. Specifically, National Marine Consultants, Inc. has been granted laboratory accreditation to perform the following test methods at their Thorofare, New Jersey site: (1) API Gravity, ASTM D 287 & ASTM D 1298; (2) Sediment, ATSM D 473 & ASTM D 95; (3) Distillation, ASTM D 86; (4) Saybolt Universal Viscosity, ASTM D 445; (5) Percent by weight of Sulfur, ASTM D 4294. Additionally, National Marine Consultants, Inc. has been granted approval to gauge petroleum products under Chapter 27 and Chapter 29, animal and vegetable oils under Chapter 15 and organic compounds under Chapter 29 of the Harmonized Tariff Schedule of the United States (HTSUS). Therefore, in accordance with Parts 151.12 and 151.13 of the Customs Regulations, National Marine Consultants, Inc. is hereby accredited to analyze and approved to gauge the products named above.

LOCATION: National Marine Consultants, Inc. accredited and approved site is located at: 650 Grove Road, Suite 111, Thorofare, New Jersey 08086.

EFFECTIVE DATE: August 13, 2001.

FOR FURTHER INFORMATION CONTACT: Michael Parker, National Quality Manager, Laboratories and Scientific Services, U.S. Customs Service, 1300 Pennsylvania Avenue, NW., Suite 1500 North, Washington, DC 20229, (202) 927-1060.

Dated: August 20, 2001.
Ira S. Reese,
Acting Executive Director, Laboratories and Scientific Services.

[FR Doc. 01-21542 Filed 8-24-01; 8:45 am]

BILLING CODE 4820-02-P